DEPARTMENT OF HEALTH AND HUMAN SERVICES

Indian Health Service

Funding Opportunity for Ending the HIV/HCV/Syphilis Epidemics in Indian Country II (ETHIC II): A Syndemic Elimination Program for American Indian/Alaska Native Tribes and Urban Indian Communities

Announcement Type: New.

Funding Announcement Number: HHS-2024-IHS-ETHIC-0001.

Assistance Listing (Catalog of Federal Domestic Assistance or CFDA) Number: 93.933.

Key Dates

Application Deadline Date: July 31, 2024.

Earliest Anticipated Start Date: September 1, 2024.

I. Funding Opportunity Description

Statutory Authority

The Indian Health Service (IHS) is accepting applications for the second round of cooperative agreement for the Ending the Human Immunodeficiency Virus (HIV), Hepatitis C Virus (HCV), and Syphilis Epidemics (known as “the Syndemic”) in Indian Country (ETHIC II) program. This program is authorized under the Snyder Act, 25 U.S.C. 13; the Transfer Act, 42 U.S.C. 2001(a); and the Indian Health Care Improvement Act, 25 U.S.C. 1621q, 1660e. The Assistance Listings section of SAM.gov (https://sam.gov/content/home) describes this program under 93.933.

Purpose

The purpose of this program is to support communities to directly increase the diagnoses, treatment, and prevention of HIV, HCV, and syphilis.

The full Notice of Funding Opportunity and all application materials can be found on Grants.gov at https://grants.gov/search-results-detail/355020.

II. Award Information

Funding Instrument—Cooperative Agreement

Estimated Funds Available

The total funding identified for fiscal year (FY) 2024 is approximately $14 million. Individual award amounts are anticipated to be between $150,000 and $2,000,000.

Anticipated Number of Awards

The IHS anticipates issuing approximately 26 awards under this program announcement.

Period of Performance

The period of performance is for 5 years.

III. Eligibility Information

1. Eligibility

To be eligible for this funding opportunity an applicant must be one of the following, as defined by 25 U.S.C. 1603:

• A federally recognized Indian Tribe as defined by 25 U.S.C. 1603(14).

• A Tribal organization as defined by 25 U.S.C. 1603(26).

• An Urban Indian organization, as defined by 25 U.S.C. 1603(29).

IV. Agency Contacts

1. Questions on the program matters may be directed to:

Rick Haverkate, HIV/HCV/STI Branch, 5600 Fishers Lane, 08N07, MAIL STOP: 08N34-A, Rockville, MD 20857, Phone: 240-678-2873, Fax: 301-594-6213, Email: Richard.Haverkate@ihs.gov.

2. Questions on awards management and fiscal matters may be directed to:

Indian Health Service, Division of Grants Management, 5600 Fishers Lane, Mail Stop: 09E70, Rockville, MD 20857, Email: DGM@ihs.gov.

3. For technical assistance with Grants.gov, please contact the Grants.gov help desk at (800) 518-4726, or by email at support@grants.gov.

4. For technical assistance with GrantSolutions, please contact the GrantSolutions help desk at (866) 577-0771, or by email at help@grantsolutions.gov.

V. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2024-14963 Filed 7-8-24; 8:45 am]

BILLING CODE 4166-14-P